DEPARTMENT OF COMMERCE

National Oceanic and Atmospheric Administration

RIN 0648-XE997

Fisheries of the South Atlantic; South Atlantic Fishery Management Council; Public Meeting

AGENCY: National Marine Fisheries Service (NMFS), National Oceanic and Atmospheric Administration (NOAA), Commerce.

ACTION: Notice of public meeting of the South Atlantic Fishery Management Council's (Council) Scientific and Statistical Committee (SSC).

SUMMARY: The Council will hold a meeting of its SSC to review the available data for Spiny Lobster and make recommendations for setting the Overfishing Limit (OFL) and Acceptable Biological Catch (ABC).

DATES: The SSC meeting will be held via webinar on Monday, November 21, 2016, from 9 a.m. to 12 p.m.

ADDRESSES: The meeting will be held via webinar. The webinar is open to members of the public. Those interested in participating should contact Mike Errigo at the Council office (see FOR FURTHER INFORMATION CONTACT) to request an invitation providing webinar access information. Please request webinar invitations at least 24 hours in advance of the webinar.

Council address: South Atlantic Fishery Management Council, 4055 Faber Place Drive, Suite 201, N. Charleston, SC 29405.

FOR FURTHER INFORMATION CONTACT: Mike Errigo; 4055 Faber Place Drive, Suite 201, North Charleston, SC 29405; phone (843) 571-4366 or toll free (866) SAFMC-10; fax (843) 769-4520; email: mike.errigo@safmc.net.

SUPPLEMENTARY INFORMATION: This meeting is held to review the available data for Spiny Lobster and make recommendations for OFL and ABC. The SSC decided at their October 18-20, 2016 meeting in Charleston, SC that they did not have enough information to make recommendations of OFL and ABC for Spiny Lobster and requested a webinar be held to review the available information.

Items to be addressed during this meeting:

Review the available information for Spiny Lobster and provide recommendations of OFL and ABC for the Spiny Lobster fishery.

Special Accommodations

The meeting is physically accessible to people with disabilities. Requests for sign language interpretation or other auxiliary aids should be directed to the Council office (see ADDRESSES) at least 5 business days prior to the meeting.

Note: The times and sequence specified in this agenda are subject to change.

Authority: 16 U.S.C. 1801 et seq.

Dated: October 28, 2016.
Tracey L. Thompson,
Acting Deputy Director, Office of Sustainable Fisheries, National Marine Fisheries Service.

[FR Doc. 2016-26519 Filed 11-2-16; 8:45 am]

BILLING CODE 3510-22-P